DEPARTMENT OF THE INTERIOR

Geological Survey

Request for Public Comments on Proposed Information Collection Submitted to the Office of Management and Budget for Review Under the Paperwork Reduction Act

The proposed information collection described below has been submitted to the Office of Management and Budget for approval under the provisions of the Paperwork Reduction Act (44 U.S.C. chapter 35). Copies of the proposed collection of information may be obtained by contacting the Bureau's clearance officer at the phone number listed below. OMB has up to 60 days to approve or disapprove the information collection but may respond after 30 days; therefore, public comments should be submitted to OMB within 30 days in order to assure their maximum consideration. Comments and suggestions on the proposal should be made directly to the Desk Officer for the Interior Department, Office of Information and Regulatory Affairs, Office of Management and Budget, Washington, DC 20503 and to the Bureau clearance officer, U.S. Geological Survey, 807 National Center, 12201 Sunrise Valley Drive, Reston, Virginia, 20192, (703-648-7313).

Specific public comments are requested as to:

1. Whether the collection of information is necessary for the proper performance of the functions on the bureaus, including whether the information will have practical utility;

2. The accuracy of the bureau's estimate of the burden of the collection of information, including the validity of the methodology and assumptions used:

3. The quality, utility, and clarity of the information to be collected; and

4. How to minimize the burden of the collection of information on those who are to respond, including the use of appropriate automated, electronic, mechanical, or other forms of information technology.

Title: Public knowledge and perception of Black Tailed Prairie Dogs in the Midwest region of the United States.

OMB Approval No.: New collection.

Abstract: The ability to identify knowledge gaps in the public's understanding of the issues concerning Black-tailed Prairie Dogs (Cynomys ludovicianus) is necessary while conservation efforts involving this species are in the early planning stages. The object of this study is to provide information that is needed to understand the complexities of wildlife/human interactions and current land use and management practices. Any additional information about this species can provide data that can help determine if the species needs to be included on the Federal list of threatened and endangered wildlife and plants. As a result of rapidly declining populations, increased pressure to develop habitats, and controversies about disease vectors associated with prairie dog communities attention has focused in the past few years on the status of this species. The issue of listing Prairie Dogs as threatened or endangered species has become a very important subject for fish and wildlife managers, political leaders, and community groups in a 10 state areas of the Midwest (Texas, New Mexico, Colorado, Kansas, Arizona, Utah, Montana, Wyoming, North Dakota, South Dakota, and Nebraska). Although the subject has achieved wide attention, no studies have been conducted that evaluate public knowledge, perception, or economic value of prairie dog communities and management practices in these areas. Understanding public knowledge, perception, and values is a vital component of wildlife management. Improved understanding will guide future management practices.

Bureau Form No.: None.

Frequency: One time.

Description of Respondents: Individual or households.

Estimated Completion Time: 14 minutes per respondent (approximate).

Number of Respondents: 1,740 (2,900 mail surveys).

Burden hours: 406 hours. (The burden estimates are based on 14 minutes to complete each questionnaire and a 60% return rate.)

For Additional Information Please Contact: Phadrea Ponds, (970) 226-9445, phadrea_ponds@usgs.gov.

Bureau clearance officer: John Cordyack (703) 648-7313.

Dated: February 18, 2000.
Carol F. Aten,
Acting Chief Biologist.

[FR Doc. 00-10491 Filed 4-26-00; 8:45 am]

BILLING CODE 4310-Y7-M